DEPARTMENT OF JUSTICE

Notice of Lodging of Proposed Third Amended Consent Decree Under the Clean Water Act

On February 13, 2023, the Department of Justice lodged a proposed Third Amendment to the Consent Decree with the United States District Court for the Northern District of Ohio in the lawsuit entitled United States v. City of Akron, Ohio, et al., Civil Action No. 09-cv-00272.

In this action the United States, and the State of Ohio in a cross-claim, sought civil penalties and injunctive relief for violations of the Clean Water Act, 33 U.S.C. 1251 et seq., in connection with the City of Akron's (“Akron's” or “City's”) operation of its municipal wastewater treatment facility and sewer system. Under the Consent Decree, which was approved by the Court in January 2014, Akron was required to implement a comprehensive plan to address overflows from its combined sewer system and bypasses around secondary treatment at the wastewater treatment facility. That plan, known as the “Long Term Control Plan Update” (“LTCP Update”), which was approved by the United States in November 2011 and the State of Ohio in April 2012, sets forth specific projects that the City is required to implement, and identifies dates for completion of these projects.

The proposed amendment modifies provisions of the 2014 Consent Decree that are set forth in the City's LTCP Update. Specifically, the proposed amendment includes: (1) resizing a large tunnel (the Northside Interceptor Tunnel) from 23 million gallons (“MG”) to 10.3 MG; and (2) adding a new requirement for sewer separation at one of the City's combined sewer overflow discharge points that would otherwise be controlled by the Northside Interceptor Tunnel.

The publication of this notice opens a period for public comment on the proposed Third Amendment to the Consent Decree. Comments should be addressed to the Assistant Attorney General, Environment and Natural Resources Division, and should refer to United States v. City of Akron et al., D.J. Ref. No. 90-5-1-1-3144/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Third Amendment to the Consent Decree may be examined and downloaded at this Justice Department website: http://www.justice.gov/enrd/consent-decrees. We will provide a paper copy of the proposed Third Amended Consent Decree upon written request and payment of reproduction costs. Please mail your request and payment to: Consent Decree Library, U.S. DOJ—ENRD, P.O. Box 7611, Washington, DC 20044-7611.

Please enclose a check or money order for $3.50 (25 cents per page reproduction cost) payable to the United States Treasury.

Patricia McKenna,
Assistant Section Chief, Environmental Enforcement Section, Environment and Natural Resources Division.

[FR Doc. 2023-03355 Filed 2-16-23; 8:45 am]

BILLING CODE 4410-15-P